DEPARTMENT OF ENERGY

Federal Energy Regulatory Commission

[Docket No. AD02-6-000]

Northeast Energy Infrastructure Conference; Notice of Technical Conference and Agenda

January 8, 2002.

As announced in the Notice of Conference issued on December 11, 2001, the Federal Energy Regulatory Commission will hold a conference on January 31, 2002 to discuss issues regarding energy infrastructure in the northeastern states. This one-day conference will begin at 8:30 a.m.¹ and end approximately at 4 p.m., and will be held at the Helmsley Park Lane Hotel, 36 Central Park South, New York, New York. All interested persons are invited to attend.

¹ This reflects a change in starting time from the December 11, 2001 notice.

The conference will discuss the adequacy of the electric, gas and hydropower infrastructure in the Northeast, and related matters. The FERC Commissioners will attend and the Governors of the northeastern states have been invited to participate. The goal of this conference is to identify present infrastructure conditions, needs, investment and other barriers to expansion, and environmental and landowner concerns. We look forward to an informative discussion of the issues to clarify how the FERC can facilitate and enhance a comprehensive collaborative approach to energy infrastructure development and reliability for the northeastern states. It is our firm belief that an adequate, well-functioning energy infrastructure is a keystone of workable, competitive energy markets.

The conference Agenda is appended to this Notice. As the attached Agenda and this Notice indicate, the purpose of the conference is to discuss regional infrastructure issues. The conference is not intended to deal with issues pending in individually docketed cases before the Commission, such as applications involving hydropower, natural gas certificates, or the formation of Regional Transmission Organizations (RTOs). Therefore, all participants are requested to focus on the agenda topics and avoid discussing the merits of individual cases.

Opportunities for Listening to and Obtaining Transcripts of the Conference

The Capitol Connection will offer this meeting live via telephone coverage for a fee. There will not be live video coverage or videotapes of the conference. To find out more about the Capitol Connection's phone bridge, contact David Reininger or Julia Morelli (703-993-3100), or go to www.capitolconnection.gmu.edu.

Audio tapes of the meeting will be available from VISCOM (703-715-7999).

Additionally, transcripts of the conference will be available from Ace Reporting Company (202-347-3700), for a fee. The transcript will be available on the Commission's RIMS system two weeks after the conference.

As indicated in the December 11, 2001 notice, hotel rooms have been blocked at the Helmsley Park Lane Hotel (212-371-4000) under the name of the Federal Energy Regulatory Commission for any attending guests to reserve a one- or two-night stay, but unreserved rooms will be released by January 15, 2002.

Questions about the conference program should be directed to: Carol Connors, Office of External Affairs, Federal Energy Regulatory Commission, 888 First Street, NE., Washington, DC 20426, 202-208-0870, carol.connors@ferc.gov.

C.B. Spencer,
Acting Secretary.

Agenda for FERC's Northeast Energy Infrastructure Conference

Helmsley Park Lane Hotel, New York, NY.

January 31, 2002.

I. Opening Remarks and Introductions—8:30 a.m. to 9 a.m.

Chairman Pat Wood, Commissioner Nora Mead Brownell, Commissioner William Massey and Commissioner Linda Breathitt

II. Overview of Current Energy Infrastructure—9 a.m. to 9:30 a.m.

• Jeff Wright, Office of Energy Projects, FERC

III. Forecasts for Future Energy Use and Economic Impacts of Energy—9:30 to 10 a.m.

What is the Northeast region's economic and demographic outlook over the coming decade?

What is the forecasted growth in energy needs?

How much energy is available and at what prices?

Where is additional energy needed?

• Mary Novak, Managing Director-Energy Consulting, DRI-WEFA

• Scott Sitzer, Acting Director, EIA

Break—10 a.m. to 10:15 a.m.

IV. Near-term Energy Infrastructure Needs and Adequacy of Supplies—10:15 a.m. to 12 p.m.

What are the high priority infrastructure needs for today?

What happens if these are not built?

Roundtable discussion on infrastructure improvements needed in electric, hydroelectric, and natural gas facilities.

• Steve Whitley, Senior V.P., New England ISO

• Craig Frew, President, New England Gas Association

• Andre Caille, President/CEO, Hydro Quebec

• Eric Gustafson, V.P.—Transportation & Technology, Buckeye Pipeline

• Douglas M. Logan, Principal, Platt's RDI Consulting

• Representative from U.S. EPA

Lunch Break—12 p.m. to 1 p.m.

V. Identifying Factors Affecting Adequate Energy Infrastructure, Investment, and Alternative Actions—1:15 p.m. to 3 p.m.

Why is needed infrastructure delayed or not being built?

What barriers have to be overcome?

What can state and federal governments do to overcome these barriers?

Do alternatives exist to new infrastructure projects?

Roundtable discussion of energy infrastructure barriers (e.g., to siting, construction, or investment) and alternatives to construction.

• Pete Dunbar, Director, Maryland Power Plant Research Program

• Richard Kruse, Senior V.P., Duke Energy Gas Transmission

• Ron Erd, Mirant Corp.

• Richard Cowart, Director, Regulatory Assistance Project

• Eugene R. McGrath, Chairman/CEO/Pres., Consolidated Edison Co. NY

• Ashok Gupta, Director—Air/Energy, Natural Resources Defense Council

• Sonny Popowsky, Pennsylvania Consumer Advocate

• Debra Coy, V.P. & Utilities Analyst, Charles Schwab & Co.

VI. Discussion by State and Federal Officials of Next Steps and Closing Remarks by FERC Commissioners—3 p.m. to 4 p.m.

• Glenn Booth, Chief Economist, Canadian National Energy Board

• Maureen Helmer, Chairwoman, NY Public Service Commission

• Invited Governors and State Commissioners

[FR Doc. 02-909 Filed 1-14-02; 8:45 am]

BILLING CODE 6717-01-P